DEPARTMENT OF THE INTERIOR

Bureau of Land Management

[OR-030-1020-XX: G 04-0019]

Resource Advisory Council Meeting

AGENCY: Bureau of Land Management (BLM), Vale District, Interior.

ACTION: Meeting notice for the John Day/Snake Resource Advisory Council.

SUMMARY: The John Day/Snake Resource Advisory Council will meet in the Tamastslikt Cultural Institute's Multi Purpose Theater, at the Wildhorse Resort & Casino, 7277 Highway 331, Pendleton, OR 97801 8 a.m. to 4 p.m., (Pacific Time PT) on Tuesday, December 2, 2003.

The meeting may include such topics as Program of Work, Wild Horse and Burro issues, Sagegrouse Subcommittee Report, and other matters as may reasonably come before the Board. The entire meeting is open to the public. For a copy of the information to be distributed to the Board members, please submit a written request to the Vale District Office 10 days prior to the meeting. Public comment is scheduled for 11 a.m. to 11:15 a.m. PT.

FOR FURTHER INFORMATION CONTACT: Additional information concerning the John Day/Snake Resource Advisory Council may be obtained from Peggy Diegan, Management Assistant/Webmaster, Vale District Office, 100 Oregon Street, Vale, OR 97918, (541) 473-6244, or e-mail Peggy_Diegan@or.blm.gov.

Dated: October 28, 2003.
Tom Terry,
Assistant District Manager, Field Support.

[FR Doc. 03-27543 Filed 10-31-03; 8:45 am]

BILLING CODE 4310-33-P